DEPARTMENT OF HEALTH AND HUMAN SERVICES

Centers for Disease Control and Prevention

[60Day-08-05CS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Nurse Delivered Risk Reduction Intervention for HIV-Positive Women—New—National Center for HIV/AIDS, Viral Hepatitis, STD, and TB Prevention, Centers for Disease Control and Prevention (CDC).

Background and Brief Description

During the past two decades, HIV surveillance data indicate an increase in HIV/AIDS cases among women in the non-urban Southeastern United States. In 2006, the majority of HIV/AIDS cases (80%) among women were attributed to high-risk heterosexual contact with an infected partner. Women of color, particularly Black women, are disproportionately affected by HIV/AIDS which also serves as a leading cause of death for Black women. Factors shown to be associated with HIV in the South include poverty, lack of access to medical care, poor education, lack of awareness of the disease, and exposure to other sexually transmitted diseases. Presently, there is an urgent need for enhanced HIV transmission prevention interventions for HIV positive women in the southeastern United States.

The purpose of this project is to adapt and test the efficacy of an HIV transmission prevention intervention for reducing sexual risk among 330 HIV positive women in the Southeastern United States, and to study factors associated with risk among women. A brief, nurse delivered, single session intervention will be evaluated using a randomized wait-list comparison design with a three-month follow-up assessment. This project will also conduct in-depth qualitative interviews with a subgroup of 25-30 women, in order to assess experiences with the intervention, elicit recommendations for developing risk reduction intervention strategies, and to better understand the factors that place women at risk for HIV.

CDC is requesting approval for a 2-year clearance for data collection. This project will collect data from HIV positive women using a screening form to determine eligibility for participation in the study, a locator form to collect contact information from participants and a baseline and follow-up behavioral assessment that will be administered to 330 HIV positive women. The baseline and follow-up assessments contain questions about participants' socio-demographic information, health and health care, sexual activity, substance use, and other psychosocial issues. The duration of each assessment is estimated to be 45 minutes; the in-depth interview 60 minutes; the screening form 10 minutes; and the locator form 3 minutes.

There is no cost to the participants other than their time.

Estimated Annualized Burden Hours
Type of form | Number of respondents | Number of responses per respondent | Average burden per response (in hours) | Total burden (in hours)
Screening Form | 550 | 1 | 10/60 | 92
Locator Form | 330 | 1 | 3/60 | 17
Assessment Baseline/Follow-up | 330 | 2 | 45/60 | 495
In-depth Interview Guide | 30 | 1 | 1 | 30
Total |  |  |  | 634

Dated: July 24, 2008.
Maryam I. Daneshvar,
Acting Reports Clearance Officer, Centers for Disease Control and Prevention.

[FR Doc. E8-17419 Filed 7-29-08; 8:45 am]

BILLING CODE 4163-18-P